DEPARTMENT OF COMMERCE

National Telecommunications and Information Administration

First Responder Network Authority

First Responder Network Authority Combined Committee and Board Meeting

AGENCY: First Responder Network Authority (FirstNet), U.S. Department of Commerce.

ACTION: Notice of public meeting of the First Responder Network Authority Board.

SUMMARY: The Board of the First Responder Network Authority (Board) will convene an open public meeting on December 14, 2016, preceded by open public meetings of the Board Committees on December 13, 2016.

DATES: A joint meeting of the four FirstNet Board Committees will be held on December 13, 2016, between 8:00 a.m. and 3:30 p.m. (PST). The meeting of the Governance and Personnel, Technology, Consultation and Outreach, and Finance Committees will be open to the public from 8:00 a.m. to 10:15 a.m. (PST). The FirstNet Committees will be in a closed session from 10:15 a.m. to 3:30 p.m. (PST). The FirstNet Board will hold an open public meeting on December 14, 2016 between 8:00 a.m. and 9:55 a.m. (PST) and between 10:20 a.m. and 11:00 a.m. (PST). The FirstNet Board will be in closed session on December 14, 2016 between 9:55 a.m. and 10:20 a.m. (PST).

ADDRESSES: The meetings on December 13 and December 14, 2016 will be held at the Doubletree by Hilton Hotel Sacramento, 2001 Point West Way, Sacramento, CA 95815. Members of the public may listen to the meeting by dialing toll free 1-888-324-8109 and entering participant code 2827944#.

FOR FURTHER INFORMATION CONTACT: Karen Miller-Kuwana, Board Secretary, FirstNet, 12201 Sunrise Valley Drive, M/S 243, Reston, VA 20192; telephone: (571) 665-6177; email: Karen.Miller-Kuwana@firstnet.gov. Please direct media inquiries to Ryan Oremland at (571) 665-6186.

SUPPLEMENTARY INFORMATION: This notice informs the public that the Board of the First Responder Network Authority (Board) will convene an open public meeting on December 14, 2016, preceded by open public meetings of the Board Committees on December 13, 2016.

Background: The Middle Class Tax Relief and Job Creation Act of 2012 (Pub. L. 112-96, Title VI, 126 Stat. 256 (codified at 47 U.S.C. 1401 et seq.)) (Act) established FirstNet as an independent authority within the National Telecommunications and Information Administration that is headed by a Board. The Act directs FirstNet to ensure the building, deployment, and operation of a nationwide, interoperable public safety broadband network. The FirstNet Board is responsible for making strategic decisions regarding FirstNet's operations. The FirstNet Board held its first public meeting on September 25, 2012.

Matters to be Considered: FirstNet will post a detailed agenda for the Combined Committee and Board Meetings on its Web site, http://www.firstnet.gov, prior to the meetings. The agenda topics are subject to change. Please note that the subjects that will be discussed by the Committees and the Board may involve commercial or financial information that is privileged or confidential or other legal matters affecting FirstNet. As such, the Committee Chairs and Board Chair may call for a vote to close the meetings only for the time necessary to preserve the confidentiality of such information, pursuant to 47 U.S.C. 1424(e)(2).

Times and Dates of Meeting: A joint meeting of the four FirstNet Board Committees will be held on December 13, 2016, between 8:00 a.m. and 3:30 p.m. (PST). The meeting of the Governance and Personnel, Technology, Consultation and Outreach, and Finance Committees will be open to the public from 8:00 a.m. to 10:15 a.m. (PST). The FirstNet Committees will be in a closed session from 10:15 a.m. to 3:30 p.m. (PST). The FirstNet Board will hold an open public meeting on December 14, 2016 between 8:00 a.m. and 9:55 a.m. (PST) and between 10:20 a.m. and 11:00 a.m. (PST). The FirstNet Board will be in closed session on December 14, 2016 between 9:55 a.m. and 10:20 a.m. (PST). The times listed above are subject to change. Please refer to FirstNet's Web site at www.firstnet.gov for the most up-to-date information.

Place: The meetings on December 13 and December 14, 2016 will be held at the Doubletree by Hilton Hotel Sacramento, 2001 Point West Way, Sacramento, CA 95815. Members of the public may listen to the meeting by dialing toll free 1-888-324-8109 and entering participant code 2827944#.

Other Information: These meetings are open to the public and press on a first-come, first-served basis. Space is limited. To ensure an accurate headcount, all expected attendees are asked to provide notice of intent to attend by sending an email to BoardRSVP@firstnet.gov. If the number of RSVPs indicates that expected attendance has reached its capacity, FirstNet will respond to all subsequent notices indicating that capacity has been reached and that in-person viewing may no longer be available but that the meeting may still be viewed by webcast as detailed below. For access to the meetings, valid government issued photo identification may be requested for security reasons.

The Combined Committee and Board Meetings are accessible to people with disabilities. Individuals requiring accommodations, such as sign language interpretation or other ancillary aids, are asked to notify Ms. Miller-Kuwana by telephone (571) 665-6177 or email at Karen.Miller-Kuwana@firstnet.gov at least five (5) business days before the applicable meeting.

The meeting will also be webcast. Please refer to FirstNet's Web site at www.firstnet.gov for webcast instructions and other information. Viewers experiencing any issues with the live webcast may email support@sparkstreetdigital.com or call 202-684-3361 x3 for support. A variety of automated troubleshooting tests are also available via the “Troubleshooting Tips” button on the webcast player. The meetings will also be available to interested parties by phone. To be connected to the meetings in listen-only mode by telephone, please dial toll free 1-888-324-8109 and enter participant code 2827944#. If you experience technical difficulty, please contact the Conferencing Center customer service at 1-866-900-1011.

Records: FirstNet maintains records of all Board proceedings. Minutes of the Board Meeting and the Committee meetings will be available at www.firstnet.gov.

Dated: December 1, 2016.
Karen Miller-Kuwana,
Board Secretary, First Responder Network Authority.

[FR Doc. 2016-29302 Filed 12-6-16; 8:45 am]

BILLING CODE 3510-TL-P